DEPARTMENT OF DEFENSE

GENERAL SERVICES ADMINISTRATION

NATIONAL AERONAUTICS AND SPACE ADMINISTRATION

[OMB Control No. 9000-0047; Docket No. 2021-0053; Sequence No. 1]

Information Collection; Place of Performance

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a renewal and extension concerning place of performance. DoD, GSA, and NASA invite comments on: Whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through May 31, 2021. DoD, GSA, and NASA propose that OMB extend its approval for use for three additional years beyond the current expiration date.

DATES: DoD, GSA, and NASA will consider all comments received by March 16, 2021.

ADDRESSES: DoD, GSA, and NASA invite interested persons to submit comments on this collection through http://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0047, Place of Performance. Comments received generally will be posted without change to http://www.regulations.gov, including any personal and/or business confidential information provided. To confirm receipt of your comment(s), please check www.regulations.gov, approximately two-to-three days after submission to verify posting.

FOR FURTHER INFORMATION CONTACT: Mahruba Uddowla, Procurement Analyst, at telephone 703-605-2868, or mahruba.uddowla@gsa.gov.

SUPPLEMENTARY INFORMATION:

A. OMB control number, Title, and any Associated Form(s): 9000-0047, Place of Performance.

B. Need and Uses: This clearance covers the information that bidders or offerors must submit to comply with the following Federal Acquisition Regulation (FAR) requirements:

• 52.214-14, Place of Performance-Sealed Bidding. This FAR provision is prescribed for invitation for bids (i.e. FAR part 14 procurements) where the Government did not specify the place of performance.

• 52.215-6, Place of Performance. This FAR provision is prescribed for solicitations, when contracting by negotiation (i.e. FAR part 15 procurements), where the Government did not specify the place of performance.

Both provisions ask for identical information from bidders or offerors: Whether or not they intend to use one or more plants or facilities located at a different address from the address of the bidder or offeror as indicated in their bid or offer. If the response indicates the intention to use plants or facilities located at a different location than the bidder's or offeror's address, the provisions require that bidders or offerors provide the address(es) of the other place(s) of performance, along with name and address of the owner and operator of such plant or facility (if other than the bidder or offeror).

The contracting officer uses the place of performance and the owner of the plant or facility to—

(a) Determine prospective contractor responsibility;

(b) Determine price reasonableness;

(c) Conduct plant or source inspections; and

(d) Determine whether the prospective contractor is a manufacturer or a regular dealer.

C. Annual Burden:

Respondents/Recordkeepers: 14,188.

Total Annual Responses: 1,996,197.

Total Burden Hours: 90,827.

Obtaining Copies: Requesters may obtain a copy of the information collection documents from the GSA Regulatory Secretariat Division by calling 202-501-4755 or emailing GSARegSec@gsa.gov.

Please cite OMB Control No. 9000-0047, Place of Performance.

William F. Clark,
Director, Office of Government-wide Acquisition Policy, Office of Acquisition Policy, Office of Government-wide Policy.

[FR Doc. 2021-00861 Filed 1-14-21; 8:45 am]

BILLING CODE 6820-EP-P